DEPARTMENT OF TRANSPORTATION

Federal Aviation Administration

14 CFR Part 39

[Docket No. FAA-2009-0797; Directorate Identifier 2009-CE-032-AD]

RIN 2120-AA64

Airworthiness Directives; Hawker Beechcraft Corporation Models 58, 58A, 58P, 58PA, 58TC, 58TCA, 95-B55, 95-B55A, A36, A36TC, B36TC, E55, E55A, F33A, and V35B Airplanes

AGENCY: Federal Aviation Administration (FAA), Department of Transportation (DOT).

ACTION: Notice of proposed rulemaking (NPRM).

SUMMARY: We propose to supersede Airworthiness Directive (AD) 91-18-19, which applies to certain Hawker Beechcraft Corporation (Hawker) (Type Certificate Numbers 3A15, 3A16, and A23CE formerly held by Raytheon Aircraft Company; formerly held by Beech Aircraft Corporation) Models 58, 58A, 58P, 58PA, 58TC, 58TCA, 95-B55, 95-B55A, A36, A36TC, B36TC, E55, E55A, F33A, and V35B airplanes. AD 91-18-19 currently requires you to do a one-time inspection of the pilot and copilot shoulder harnesses for an incorrect washer and replace any incorrect washer with the correct washer. Since we issued AD 91-18-19, we have found that the applicability of AD 91-18-19 was incorrectly stated when the Model A36TC airplane was omitted from the Applicability section. Consequently, this proposed AD would retain the actions and the serial number (SN) applicability of AD 91-18-19 and realign the SN applicability for Models A36TC and B36TC airplanes. We are proposing this AD to detect and correct an incorrect washer installed in the pilot and copilot shoulder harnesses. This failure could result in a malfunctioning shoulder harness. Such a failure could lead to occupant injury.

DATES: We must receive comments on this proposed AD by October 27, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, P.O. Box 85, Wichita, Kansas 67201-0085; telephone: (800) 429-5372 or (316) 676-3140; Internet: http://pubs.hawkerbeechcraft.com.

FOR FURTHER INFORMATION CONTACT: Steve Potter, Aerospace Engineer, ACE-118W, Wichita Aircraft Certification Office (ACO), 1801 Airport Road, Room 100, Wichita, Kansas 67209; telephone: (316) 946-4124; fax: (316) 946-4107.

SUPPLEMENTARY INFORMATION:

Comments Invited

We invite you to send any written relevant data, views, or arguments regarding this proposed AD. Send your comments to an address listed under the ADDRESSES section. Include the docket number, “FAA-2009-0797; Directorate Identifier 2009-CE-032-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Reports of incorrect washers installed in the pilot and copilot shoulder harnesses on certain Beech 33, 35, 36, 55, 58, and 95 series airplanes caused us to issue AD 91-18-19, Amendment 39-8022 (56 FR 42224, August 24, 1991). AD 91-18-19 currently requires the following on Models 58, 58A, 58P, 58PA, 58TC, 58TCA, 95-B55, 95-B55A, A36, B36TC, E55, E55A, F33A, and V35B airplanes:

• Inspecting the pilot and copilot shoulder harnesses for incorrect washers; and

• Replacing any incorrect washers found with a part number (P/N) 100951X060YA washer.

The FAA has identified that the applicability of AD 91-18-19 was incorrectly stated when the Model A36TC airplane was omitted from the Applicability section. Further, SNs of the Model A36TC airplane were incorrectly aligned to the Model B36TC airplane.

This condition, if not corrected, could result in an incorrect washer installed in the pilot and copilot shoulder harnesses. This failure could result in a malfunctioning shoulder harness. Such a failure could lead to occupant injury.

Relevant Service Information

We have reviewed Beechcraft Mandatory Service Bulletin No. 2394, dated December 1990.

The service information describes procedures for:

• Inspecting the pilot and copilot shoulder harnesses for incorrect washers; and

• Replacing any incorrect washers found with a P/N 100951X060YA washer.

FAA's Determination and Requirements of the Proposed AD

We are proposing this AD because we evaluated all information and determined the unsafe condition described previously is likely to exist or develop on other products of the same type design. This proposed AD would supersede AD 91-18-19 with a new AD that would incorporate the actions in the previously-referenced service information. This proposed AD would require you to use the service information described previously to perform these actions.

Costs of Compliance

We estimate that this proposed AD would affect 4,792 airplanes in the U.S. registry.

We estimate the following costs to do the proposed inspection:

Labor cost | Parts cost | Total cost per airplane | Total cost on U.S. operators
1 work-hour × $80 per hour = $80 | Not applicable | $80 | $383,360

We estimate the following costs to do any necessary replacements that would be required based on the results of the proposed inspection. We have no way of determining the number of airplanes that may need this replacement:

Labor cost | Parts cost | Total cost per airplane
1 work-hour × $80 per hour = $80 | $5 | $85

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 91-18-19, Amendment 39-8022 (56 FR 42224, August 24, 1991), and adding the following new AD:

Hawker Beechcraft Corporation (Type Certificate Numbers 3A15, 3A16, and A23CE formerly held by Raytheon Aircraft Company; formerly held by Beech Aircraft Corporation):Docket No. FAA-2009-0797; Directorate Identifier 2009-CE-032-AD.

Comments Due Date

(a) We must receive comments on this airworthiness directive (AD) action by October 27, 2009.

Affected ADs

(b) This AD supersedes AD 91-18-19, Amendment 39-8022.

Applicability

(c) This AD applies to the following airplane models and serial numbers that are certificated in any category:

(1) Group 1 Airplanes (retains the actions and applicability from AD 91-18-19):

Model | Serial Nos. (SNs)
58, 58A | TH-733 through TH-1609.
58P, 58PA | TJ-3 through TJ-497.
58TC, 58TCA | TK-1 through TK-151.
95-B55, 95-B55A | TC-1947 through TC-2456.
A36 | E-825 through E-2578.
B36TC | EA-242 and EA-273 through EA-509.
E55, E55A | TE-1078 through TE-1201.
F33A | CE-634 through CE-1536.
V35B | D-9862 through D-10403.

(2) Group 2 Airplanes (aligns certain SNs applicability to Models A36TC airplanes):

Model | SNs
A36TC | EA-1 through EA-241 and EA-243 through EA-272.

Unsafe Condition

(d) This AD results from reports of incorrect washers installed in the pilot and copilot shoulder harnesses on certain Beech 33, 35, 36, 55, 58, and 95 series airplanes. We are issuing this AD to detect and correct an incorrect washer installed in the pilot and copilot shoulder harnesses. This failure could result in a malfunctioning shoulder harness. Such a failure could lead to occupant injury.

Compliance

(e) To address this problem, you must do the following, unless already done:

Actions | Compliance | Procedures
(1) Inspect the washers on the “D” ring of the pilot and copilot shoulder harnesses for correct metal, inner and outer diameter, and thickness | (i) For Group 1 Airplanes: Within the next 100 hours time-in-service (TIS) after October 21, 1991 (the effective date of AD 91-18-19) (ii) For Group 2 Airplanes: Within the next 100 hours TIS after the effective date of this AD | Follow Beechcraft Mandatory Service Bulletin No. 2394, dated December 1990.
(2) If you find, as a result of the inspection required by paragraph (e)(1) of this AD, any washer does not meet the criteria for correct metal, inner and outer diameter, and thickness, replace the incorrect washer with part number 100951X060YA washer | Before further flight, after the inspection required by paragraph (e)(1) of this AD | Follow Beechcraft Mandatory Service Bulletin No. 2394, dated December 1990.

Alternative Methods of Compliance (AMOCs)

(f) The Manager, Wichita Aircraft Certification Office (ACO), FAA, has the authority to approve AMOCs for this AD, if requested using the procedures found in 14 CFR 39.19. Send information to ATTN: Steve Potter, Aerospace Engineer, ACE-118W, Wichita Aircraft Certification Office (ACO), 1801 Airport Road, Room 100, Wichita, Kansas 67209; telephone: (316) 946-4124; fax: (316) 946-4107. Before using any approved AMOC on any airplane to which the AMOC applies, notify your appropriate principal inspector (PI) in the FAA Flight Standards District Office (FSDO), or lacking a PI, your local FSDO.

(g) In reviewing the docket and project files, we found no AMOCs submitted for AD 91-18-19. Since there are no AMOCs approved for AD 91-18-19 to approve for this AD, transfer of AMOCs to this AD does not apply.

Related Information

(h) To get copies of the service information referenced in this AD, contact Hawker Beechcraft Corporation, P.O. Box 85, Wichita, Kansas 67201-0085; telephone: (800) 429-5372 or (316) 676-3140; Internet: http://pubs.hawkerbeechcraft.com. To view the AD docket, go to U.S. Department of Transportation, Docket Operations, M-30, West Building Ground Floor, Room W12-140, 1200 New Jersey Avenue, SE., Washington, DC 20590, or on the Internet at http://www.regulations.gov.

Issued in Kansas City, Missouri, on August 20, 2009.
Kim Smith,
Manager, Small Airplane Directorate, Aircraft Certification Service.

[FR Doc. E9-20832 Filed 8-27-09; 8:45 am]

BILLING CODE 4910-13-P